DEPARTMENT OF ENERGY

[Docket No. EA-254 and EA-255]

Application To Export Electric Energy; Aquila Energy Marketing Corporation and Aquila, Inc.

AGENCY: Office of Fossil Energy, DOE.

ACTION: Notice of application.

SUMMARY: Aquila Energy Marketing Corporation (AEM) and Aquila, Inc. (ILA) have applied to transfer AEM's authority to export electric energy from the United States to Mexico and to Canada, pursuant to section 202(e) of the Federal Power Act, to ILA.

DATES: Comments, protests or requests to intervene must be submitted on or before November 21, 2001.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-6667.

SUPPLEMENTARY INFORMATION: Exports of electricity from the United States to a foreign country are regulated and require authorization under section 202(e) of the Federal Power Act (FPA) (16 U.S.C. 824a(e)).

On August 23, 2001, the Department of Energy (DOE) issued Order Nos. EA-147-B and EA-148-B granting authority to AEM to export electric energy from the United States to Mexico and to Canada, respectively, through August 23, 2006, AEM and ILA have now applied to transfer AEM's export authority from AEM to ILA. The applicants request that the voluntary transfer be effective on the date of the liquidation of AEM and its merger into ILA. The applicants will provide the DOE with notice of completion of the liquidation and merger.

AEM, a Delaware corporation with its principal place of business in Kansas City, Missouri, is a wholly-owned subsidiary of ILA, formerly Aquila Energy Corporation, which in turn is 80% owned by UtiliCorp United Inc. (“UtiliCorp”) and 20% owned by the public. AEM is currently authorized to do business in all states in which it operates. AEM does not own or control any electric generation or transmission facilities nor does it have a franchised service area. UtiliCorp owns and operates transmission facilities in the United States through its operating divisions. AEM is engaged in the marketing of power as both a broker and as a marketer of electric power at wholesale. AEM purchases the power that it sells from cogeneration facilities, federal power marketing agencies, electric utilities and exempt wholesale generators.

ILA is a Delaware corporation with its principal place of business in Kansas City, Missouri. AEM is a subsidiary of ILA. ILA is 80% owned by UtiliCorp and 20% owned by the public. ILA is restructuring its trade entities. AEM will be liquidated and merged into ILA. Upon completion of the liquidation and merger, ILA will engage in power marketing activities.

In FE Docket No. EA-254, ILA proposes to export electric energy to Mexico and to arrange for the delivery of those exports to Mexico over the international transmission facilities owned by San Diego Gas and Electric Company, El Paso Electric Company, Central Power and Light Company, and Comision Federal de Electricidad, the national utility of Mexico. In FE Docket No. EA-255, ILA proposes to export electric energy to Canada and to arrange for the delivery of those exports to Canada over the international transmission facilities owned by Basin Electric Power Cooperative, Bonneville Power Administration, Citizens Utilities, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, and Vermont Electric Transmission Company.

The construction of each of the international transmission facilities to be utilized by ILA has previously been authorized by a Presidential permit issued pursuant to Executive Order 10485, as amended.

Procedural Matters: Any person desiring to become a party to this proceeding or to be heard by filing comments or protests to these applications should file a petition to intervene, comment or protest at the address provided above in accordance with §§ 385.211 or 385.214 of the FERC's Rules of Practice and Procedures (18 CFR 385.211, 385.214). Fifteen copies of each petition and protest should be filed with the DOE on or before the date listed above.

Comments on the ILA applications to export electric energy to Mexico and/or Canada should be clearly marked with Docket EA-254 and/or Docket EA-255, respectively. Additional copies are to be filed directly with Kevin Fox, Senior Vice President and General Manager, Aquila Energy Marketing Corporation, 1100 Walnut Street, Suite 3300, Kansas City, Missouri 64106 and Kathryn A. Flaherty, Blackwell Sanders Peper Martin, 13710 FNB Parkway, Suite 200, Omaha, Nebraska 68154.

A final decision will be made on these applications after the environmental impacts have been evaluated pursuant to the National Environmental Policy Act of 1969, and a determination is made by the DOE that the proposed action will not adversely impact on the reliability of the U.S. electric power supply system.

Copies of these applications will be made available, upon request, for public inspection and copying at the address provided above or by accessing the Fossil Energy homepage at http://www.fe.doe.gov. Upon reaching the Fossil Energy Home page, select then “Electricity Regulation,” and then “Pending Proceedings” from the options menus.

Issued in Washington, DC, on October 16, 2001.
Anthony J. Como,
Deputy Director, Electric Power Regulation, Office of Coal & Power Import/Export, Office of Coal & Power Systems, Office of Fossil Energy.

[FR Doc. 01-26515 Filed 10-19-01; 8:45 am]

BILLING CODE 6450-01-P